FEDERAL COMMUNICATIONS COMMISSION

47 CFR Part 73

[DA 24-530; MB Docket No. 24-83; FR ID 224894]

Radio Broadcasting Services; Mattoon, Illinois

AGENCY: Federal Communications Commission.

ACTION: Final rule.

SUMMARY: This document amends the Table of FM Allotments, of the Federal Communications Commission's (Commission) rules, by substituting Channel 245B1 for vacant Channel 245B at Mattoon, Illinois to resolve the distance spacing conflict with Station WHMS-FM and maintain a second local FM service. A staff engineering analysis determines that Channel 245B1 can be allotted to Mattoon, Illinois consistent with the minimum distance separation requirements of the Commission's rules with a site restriction of 12.2 kilometers (7.6 miles) southeast of the community at reference coordinates 39-23-17 NL and 88-17-21 WL. See SUPPLEMENTARY INFORMATION.

DATES: Effective July 22, 2024.

FOR FURTHER INFORMATION CONTACT: Rolanda F. Smith, Media Bureau, (202) 418-2054, Rolanda-Faye.Smith@fcc.gov.

SUPPLEMENTARY INFORMATION: This is a synopsis of the Commission's Report and Order, MB Docket No. 24-83, adopted June 6, 2024, and released June 6, 2024. The full text of this Commission decision is available online at https://apps.fcc.gov/ecfs/. The full text of this document can also be downloaded in Word or Portable Document Format (PDF) at https://www.fcc.gov/edocs. This document does not contain information collection requirements subject to the Paperwork Reduction Act of 1995, Public Law 104-13.

Channel 245B at Mattoon, Illinois is not currently listed in the Table of FM Allotments. Channel 245B is considered a vacant allotment resulting from the cancellation of the license for Station DWLBH-FM. The vacant Channel 245B at Mattoon is short-spaced to Station WHMS-FM, Channel 248B, Champaign, Illinois by ten kilometers. The minimum distance spacing requirement of section 73.207(b) of the Commission's rules is 74 kilometers.

The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend the Table of FM Allotments under Illinois, by adding in alphabetical order an entry for “Mattoon” to read as follows:

§ 73.202 Table of Allotments.

* * * * *

(b) Table of FM Allotments.

Table 1 to Paragraph (b)
U.S. States | Channel No.
Illinois
* * * * *
Mattoon | 245B1
* * * * *

* * * * *

[FR Doc. 2024-13002 Filed 6-12-24; 8:45 am]

BILLING CODE 6712-01-P